GENERAL SERVICES ADMINISTRATION

48 CFR Part 570

[GSAR-TA-2023-01; Docket No. 2023-0007; Sequence No. 1]

General Services Administration Acquisition Regulation; Immediate and Highest Level Owner for High-Security Leased Space; Technical Amendment

AGENCY: Office of Acquisition Policy, General Services Administration (GSA).

ACTION: Technical amendment.

SUMMARY: The General Services Administration is issuing this technical amendment to amend the General Services Administration Acquisition Regulation (GSAR) to make a needed technical amendment. In error, the Code of Federal Regulations (CFR) was not fully updated as a result of the amendment. Therefore, this correcting amendment is issued in order to update the CFR to include the amendatory language not included as originally intended at time of publication of the interim rule (GSAR 2021-G527).

DATES: Effective: February 15, 2023.

FOR FURTHER INFORMATION CONTACT: For clarification of content, contact Mr. Stephen Carroll, Procurement Analyst, at GSARPolicy@gsa.gov or 817-253-7858. For information pertaining to status or publication schedules, contact the Regulatory Secretariat at GSARegSec@gsa.gov or 202-501-4755.

SUPPLEMENTARY INFORMATION: On July 1, 2021, GSA amended the General Services Administration Acquisition Regulation (GSAR) through an interim rule (86 FR 34966 ¹). The interim rule for GSAR Case 2021-G527, Immediate and Highest Level Owner for High-Security Leased Space, was issued to implement Section 3 and Section 5 requirements of the Secure Federal Leases from Espionage and Suspicious Entanglement Act (the Act or Secure Federal LEASEs Act). The interim rule amended 48 CFR 501, 552, and 570. 48 CFR 501 and 552 were appropriately updated in the CFR at the time of publication. 48 CFR 570 was not. Therefore, this correcting amendment updates the CFR by adding paragraphs (c) and (d) at GSAR 570.703.

¹ 86 FR 34966.

List of Subjects in 48 CFR Part 570

Government procurement.

Jeffrey Koses,
Senior Procurement Executive, Office of Acquisition Policy, Office of Governmentwide Policy, General Services Administration.

Therefore, GSA amends 48 CFR part 570 by making the following correcting amendment:

PART 570—ACQUIRING LEASEHOLD INTERESTS IN REAL PROPERTY

1. The authority citation for 48 CFR part 570 continues to read as follows:

Authority: 40 U.S.C. 121(c).

2. Amend section 570.703 by adding paragraphs (c) and (d) to read as follows:

570.703 GSAR contract clauses.

* * * * *

(c) Insert the representation clause at 552.270-33, Foreign Ownership and Financing Representation for High-Security Leased Space, in novations, solicitations and contracts for leased space that:

(1) Will be occupied by Federal employees for nonmilitary activities; and

(2) Has a facility security level of III, IV, or V.

(d) Insert the clause at 552.270-34 Access Limitations for High-Security Leased Space, in novations, solicitations and contracts for leased space that:

(1) Will be occupied by Federal employees for nonmilitary activities; and

(2) Has a facility security level of III, IV, or V.

[FR Doc. 2023-03143 Filed 2-14-23; 8:45 am]

BILLING CODE 6820-61-P